FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010982-035 (Correction).

Title: Florida-Bahamas Shipowner and Operators Association.

Parties: Tropical Shipping and Construction Co., Ltd.; Atlantic Caribbean Line, Inc.; Pioneer Shipping Ltd.; Crowley Liner Services, Inc.; Seaboard Marine, Ltd.; G&G Marine, Inc.; and Caicos Cargo Ltd.

Synopsis: An earlier notice indicated that King Maritime, Inc. would be joining the agreement. This was in error. A related company, Atlantic Caribbean Line, Inc., will be participating in the agreement in place of King Maritime, Inc.

Agreement No.: 011075-065.

Title: Central America Discussion Agreement.

Parties: APL Co. PTE Ltd.; A.P. Moller-Maersk A/S; Crowley Liner Services, Inc.; Dole Ocean Cargo Express; Great White Fleet; King Ocean Services Limited; Seaboard Marine, Ltd.; and Lykes Lines Limited, LLC.

Synopsis: The amendment adds Great White Fleet as a party to the agreement.

Agreement No.: 011259-024.

Title: U.S./Southern Africa Agreement.

Parties: A.P. Moller-Maersk A/S; Mediterranean Shipping Company, S.A.; and Safmarine Lines N.V.

Synopsis: The amendment updates Maersk's corporate name.

Agreement No.: 011707-003.

Title: Gulf/South America Discussion Agreement.

Parties: Associated Transport Line, LLC; ATL Investments Ltd.; Industrial Maritime Carriers (U.S.A.) Inc.; and Seaboard Marine Ltd.

Synopsis: The amendment adds Seaboard Marine Ltd. as a party to the agreement.

Agreement No.: 011770-003.

Title: NSCSA/CNCO Slot Exchange Agreement.

Parties: National Shipping Company of Saudi Arabia and the China Navigation Co. Ltd.

Synopsis: The amendment substitutes China Navigation Co. Ltd. for Oldendorff Carriers (Indotrans) Ltd. as a party to the agreement, and revises each parties' vessel contribution under the agreement.

Agreement No.: 201152.

Title: New Orleans/Ceres Gulf Napoleon Avenue Terminal Lease Agreement.

Parties: Board of Commissioners of the Port of New Orleans and Ceres Gulf, Inc.

Synopsis: The agreement provides for the lease of terminal facilities at the Napoleon Avenue Terminal Complex.

Agreement No.: 201153.

Title: New Orleans/Ceres Lease Agreement.

Parties: Board of Commissioners of the Port of New Orleans and Ceres Gulf, Inc.

Synopsis: The agreement provides for the lease of office space at the Napoleon Avenue Terminal Complex.

Agreement No.: 201154.

Title: Sublease Agreement.

Parties: Tioga Fruit Terminal, Inc. and Delaware River Stevedores, Inc.

Synopsis: The agreement provides for the sublease of space from Delaware River Stevedores to Tioga Fruit at the Port of Philadelphia.

By Order of the Federal Maritime Commission.
Dated: February 27, 2004.
Bryant L. VanBrakle,
Secretary.

[FR Doc. 04-4765 Filed 3-2-04; 8:45 am]

BILLING CODE 6730-01-P